DEPARTMENT OF ENERGY

Federal Energy Regulatory Commission

[Docket No. ER97-4185-001, et al.]

Texas-New Mexico Power Company, et al.; Electric Rate and Corporate Regulation Filings

Correction

In notice document 00-28876 beginning on page 67738 in the issue of Monday, November 13, 2000, make the following correction:

On page 67738, in the second column, under the heading, 2. Dominion Nuclear Marketing III, Inc., the docket number should read “Docket No. ER00-3746-001”.

[FR Doc. C0-28876 Filed 11-24-00; 8:45 am]

BILLING CODE 1505-01-D

FEDERAL TRADE COMMISSION

16 CFR Part 1

Federal Civil Penalties Inflation Adjustment Act of 1990, as Amended by the Debt Collection Improvement Act of 1996

Correction

In rule document 00-29469 beginning on page 69665 in the issue of Monday, November 20, 2000, make the following correction:

§ 1.98 [Corrected]

On page 69666, in the second column, under the ÿ7Eauthority citation, add the following amendatory instruction:

“3. Revise §1.98 to read as follows:”

[FR Doc. C0-29469 Filed 11-24-00; 8:45 am]

BILLING CODE 1505-01-D

SECURITIES AND EXCHANGE COMMISSION

[Release No. 34-43504; File No. SR-MBSCC-00-01]

Self-Regulatory Organizations; MBS Clearing Corporation; Order Approving a Proposed Rule Change Relating to Letters of Credit

Correction

In notice document 00-29286 beginning on page 69356 in the issue of Thursday, November 16, 2000, the docket number is corrected to read as set forth above.

[FR Doc. C0-29286 Filed 11-24-00; 8:45 am]

BILLING CODE 1505-01-D

DEPARTMENT OF TRANSPORTATION

Federal Aviation Administration

14 CFR Part 93

[Docket No. FAA-1999-5926]

RIN 2120-AG74

Modification of the Dimensions of the Grand Canyon National Park Special Flight Rules Area and Flight Free Zones

Correction

In rule document 00-29622 beginning on page 69846 in the issue of Monday, November 20, 2000, make the following correction:

§§ 93.305 and 93.307 [Corrected]

On page 69847, in the third column, in amendatory instruction 2., in the seventh line, “because” should read “become”.

[FR Doc. C0-29622 Filed 11-24-00; 8:45 am]

BILLING CODE 1505-01-D